DEPARTMENT OF LABOR

Employment and Training Administration

Notice of a Change in Status of the Payable Periods in the Emergency Unemployment Compensation 2008 (EUC08) Program for Texas

AGENCY: Employment and Training Administration, Labor.

ACTION: Notice.

SUMMARY: Texas will trigger “on” to Tier Four of Emergency Unemployment Compensation 2008 (EUC08) for weeks of unemployment beginning December 11, 2011.

Public law 111-312 extended provisions in public law 111-92 which amended prior laws to create a Third and Fourth Tier of benefits within the EUC08 program for qualified unemployed workers claiming benefits in high unemployment states. The Department of Labor produces a trigger notice indicating which states qualify for EUC08 benefits within Tiers Three and Four and provides the beginning and ending dates of payable periods for each qualifying state. The trigger notice covering state eligibility for the EUC08 program can be found at: http://ows.doleta.gov/unemploy/claims_arch.asp.

Based on data released by the Bureau of Labor Statistics on November 22, 2011, the three month average, seasonally adjusted total unemployment rate for Texas rose to meet the 8.5% threshold to trigger “on” in Tier Four of the EUC08 program. The payable period for Texas in Tier Four of EUC will begin December 11, 2011. As a result, the current maximum potential entitlement will increase from 47 weeks to 53 weeks in the EUC08 program.

Information for Claimants

The duration of benefits payable in the EUC program, and the terms and conditions under which they are payable, are governed by public laws 110-252, 110-449, 111-5, 111-92, 111-118, 111-144, 111-157, 111-205 and 111-312, and the operating instructions issued to the states by the U.S. Department of Labor. Persons who believe they may be entitled to additional benefits under the EUC08 program, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 6th day of December, 2011.
Jane Oates,
Assistant Secretary, Employment and Training Administration.

[FR Doc. 2011-32881 Filed 12-22-11; 8:45 am]

BILLING CODE 4510-FW-P